DEPARTMENT OF COMMERCE

National Oceanic and Atmospheric Administration

RIN 0648-XC619

North Pacific Fishery Management Council (NPFMC); Public Meeting

AGENCY: National Marine Fisheries Service (NMFS), National Oceanic and Atmospheric Administration (NOAA), Commerce.

ACTION: Notice of public meeting.

SUMMARY: The North Pacific Fishery Management Council's (Council) Bering Sea Aleutian Islands (BSAI) Crab Plan Team (CPT) will meet in Anchorage, AK.

DATES: The meeting will be held April 30 through May 3, 2013, from 9 a.m. to 5 p.m.

ADDRESSES: The meeting will be held at the Clarion Suites, 1110 West 8th Avenue, Heritage Room, Anchorage, AK.

Council address: North Pacific Fishery Management Council, 605 W. 4th Avenue, Suite 306, Anchorage, AK 99501-2252.

FOR FURTHER INFORMATION CONTACT: Diana Stram; telephone: (907) 271-2809.

SUPPLEMENTARY INFORMATION: The Plan Team meeting agenda includes preparation of the Economic Stock Assessment Fishery Evaluation (SAFE) report, and recommendations of Acceptable Biological Catch (ABC), and Overfishing level (OFL) for 4 BSAI crab stocks—Aleutian Island Golden King Crab (AIGCK), Norton Sound Red King Crab (NSRKC), Pribilof Island Golden King Crab (PIGKC), Adak red king crab. Model update and reviews for Snow Crab, Tanner Crab, Saint Matthew Blue King Crab, Bristol Bay Red King Crab (BBRKC). See full detailed agenda on Council Web site.

The Agenda is subject to change, and the latest version will be posted at http://www.alaskafisheries.noaa.gov/npfmc/.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: April 9, 2013.
Tracey L. Thompson,
Acting Deputy Director, Office of Sustainable Fisheries, National Marine Fisheries Service.

[FR Doc. 2013-08628 Filed 4-11-13; 8:45 am]

BILLING CODE 3510-22-P